DEPARTMENT OF STATE

[Public Notice: 11528]

United States Passports Invalid for Travel to, in, or Through the Democratic People's Republic of Korea (DPRK)

AGENCY: Department of State.

ACTION: Notice of extension of passport travel restriction.

SUMMARY: On September 1, 2017, all U.S. passports were declared invalid for travel to, in, or through the Democratic People's Republic of Korea (DPRK), unless specially validated for such travel. The restriction was extended for one year in 2018, 2019, and 2020. This notice extends the restriction until August 31, 2022, unless extended or revoked by the Secretary of State.

DATES: The extension of the travel restriction is in effect on September 2, 2021.

FOR FURTHER INFORMATION CONTACT: Lawrence Kovaciny, Bureau of Consular Affairs, Passport Services, Office of Adjudication, 202-485-8800.

SUPPLEMENTARY INFORMATION: On September 1, 2017, pursuant to the authority of 22 U.S.C. 211a and Executive Order 11295 (31 FR 10603), and in accordance with 22 CFR 51.63(a)(3), all U.S. passports were declared invalid for travel to, in, or through the DPRK unless specially validated for such travel. The restriction was renewed on September 1, 2018, September 1, 2019, and again for another year effective September 1, 2020.

The Department of State has determined there continues to be serious risk to U.S. citizens and nationals of arrest and long-term detention constituting imminent danger to their physical safety, as defined in 22 CFR 51.63(a)(3). Accordingly, all U.S. passports shall remain invalid for travel to, in, or through the DPRK unless specially validated for such travel under the authority of the Secretary of State. This extension to the restriction of travel to the DPRK shall be effective upon publication of this notice in the Federal Register and shall expire on August 31, 2022, unless extended or revoked by the Secretary of State.

Dated: August 30, 2021.
Brian P. McKeon,
Deputy Secretary of State for Management and Resources.

[FR Doc. 2021-19140 Filed 9-1-21; 8:45 am]

BILLING CODE 4710-13-P